DEPARTMENT OF THE INTERIOR

Bureau of Land Management

[CO-500-0777-XQ-2527]

Front Range Resource Advisory Council (Colorado) Meeting

AGENCY: Bureau of Land Management, Interior.

ACTION: Notice of meeting.

SUMMARY: In accordance with the Federal Advisory Committee Act of 1972 (FACA), 5 U.S.C. Appendix, notice is hereby given that the next meeting of the Front Range Resource Advisory Council (Colorado) will be held on September 13 in Canon City, Colorado. The meeting is scheduled to begin at 11:30 a.m. at the Holy Cross Abbey Community Center, 2951 E. Highway 50, Canon City, Colorado. Topics will include a discussion on current plan amendments, and an update on the Recreation Guidelines for Colorado. All Resource Advisory Council meetings are open to the public. Interested persons may make oral statements to the Council at 1 p.m. on September 13 or written statements may be submitted for the Council's consideration. The Center Manager may limit the length of oral presentations depending on the number of people wishing to speak.

DATES: The meeting is scheduled for Wednesday, September 13, 2000 from 11:30 a.m. to 4 p.m.

ADDRESSES: Bureau of Land Management (BLM), Front Range Center, 3170 East Main Street, Canon City, Colorado 81212

CONTACT: For further information contact Ken Smith at (719) 269-8500.

SUPPLEMENTARY INFORMATION: Summary minutes for the Council meeting will be maintained in the Canon City Center and will be available for public inspection and reproduction during regular business hours within thirty (30) days following the meeting.

Dated: August 11, 2000.
John L. Carochi,
Acting Front Range Center Manager.

[FR Doc. 00-21211 Filed 8-18-00; 8:45 am]

BILLING CODE 4310-JB-P